DEPARTMENT OF AGRICULTURE

Agricultural Research Service

Government Owned Inventions Available for Licensing

AGENCY: Agricultural Research Service, USDA.

ACTION: Notice of Government owned inventions available for licensing.

SUMMARY: The inventions listed below are owned by the U.S. Government as represented by the Department of Agriculture, and are available for licensing in accordance with 35 U.S.C. 207 and 37 CFR 404 to achieve expeditious commercialization of results of federally funded research and development. Foreign patents are filed on selected inventions to extend market coverage for U.S. companies and may also be available for licensing.

FOR FURTHER INFORMATION CONTACT: Technical and licensing information on these inventions may be obtained by writing to June Blalock, Technology Licensing Coordinator, USDA, ARS, Office of Technology Transfer, 5601 Sunnyside Avenue, Room 4-1158, Beltsville, Maryland 20705-5131; telephone: 301-504-5989 or fax: 301-504-5060. Issued patents may be obtained from the Commissioner of Patents, U.S. Patent and Trademark Office, Washington, DC 20231.

SUPPLEMENTARY INFORMATION: The inventions available for licensing are:

S.N. 08/834,051, “Activated Carbons From Low-Density Agricultural Waste”

S.N. 08/853,296, “Activated Nutshell Carbons With Enhanced Removal of Polar Organics'”

S.N. 08/865,429, “Activated Nutshell Carbons from Agricultural Waste”

S.N. 09/197,679, “Vaccine Against Swine Influenza Virus”

S.N. 09/395,565, “Insulin Potentiating Compounds from Cinnamon”

S.N. 09/414,097, “Bacillus Species for Reducing Fusarium Head Blight in Cereals”

S.N. 09/414,645, “Chromium-Histidine Complexes as Nutrient Supplements”

S.N. 09/420,963, “Edible Water-Solubility Resistant Casein Masses”

S.N. 09/428,096, “Application of High Pressure Carbon Dioxide for Accelerated Manufacture of Hard Cheese”

S.N. 09/451,117, “Cloning and Expression of a DNA Sequence Encoding A 41 kDa Cryptosporidium parvum Oocyst Wall Protein”

S.N. 09/452,939, “Enzymatic Treatment of Proteinaceous Materials to Impart Cohesion and Strength”

S.N. 09/461,257, “Compositions Comprising Mixtures of Anionic Polyacrylamide (PAM) and Calcium Oxide (CaO) and Methods of Using Thereof”

S.N. 09/471,016, “Method for Differentiating Between the Causal Agents of Karnal Bunt Wheat Fungus and Ryegrass Smut Using PCR”

S.N. 09/490,360, “Biodegradable Oleic Estolide Ester Having Saturated Fatty Acid End Group Useful as Lubricant Base Stock”

S.N. 09/490,361, “Mobile System to Repackage Compressible Materials”

S.N. 09/511,193, “Artificial Diets for Arthropods”

S.N. 09/515,238, “ ‘Gulfprince’ Peach”

S.N. 09/522,401, “Transformation of Plants with a Chloroperoxidase Gene to Enhance Disease Resistance”

S.N. 09/523,330, “7,10,12-Trihydroxy-8(E)-Octadecenoic Acid and Derivatives and Uses Thereof”

S.N. 09/526,334, “Attractant for the Mediterranean Fruit Fly, The Method of Preparation and Method of Use”

S.N. 09/534,002, “Monoclonal Antibodities Specific for Avian Interferon-Y”

S.N. 09/535,381, “Fungal Lactate Dehydrogenase Gene and Constructs for the Expression Thereof”

S.N. 09/535,826, “Novel Sunscreens from Vegetable Oil and Plant Phenols”

S.N. 09/538,837, “Rice Flour Based Low Oil Uptake Frying Batters”

S.N. 09/558,895, “Wood and Plastic Composite Material and Methods for Making Same”

S.N. 09/573,354, “An Elicitor Protein Produced by Trichoderma Virens That Induces Disease Defense Responses in Plants”

S.N. 09/577,148, “Selected Insect Cell Line Clones Providing Increased Yield of Baculoviruses and Gene Expression Products from Recombinant Baculoviruses”

S.N. 09/583,529, “Selective Media for Recovery and Enumeration of Campylobacters”

S.N. 09/592,777, “System for the Control of Enteropathogenic Bacteria in the Crops of Poultry”

S.N. 09/594,659, “Flexible Ground-Driven Residue Management Wheel”

S.N. 09/594,704, “Cryopreservation of Swine Embryos”

S.N. 09/603,997, “Production of Vaccines Using Transgenic Plants or Modified Plant Viruses as Expression Vectors and Transencapsidated Viral Coat Proteins as Epitope Presentation Systems”

S.N. 09/611,615, “Coby Products and a Process for Their Manufacture”

S.N. 09/615,298, “A Monoclonal Antibody Based Immunoassy for Ractopamine”

S.N. 09/621,466, “Biological Control Formulation Containing Spores of Non-Toxigenic Strains of Fungi for Toxin Control of Foods”

S.N. 09/631,551, “Control of Kudzu With a Fungal Pathogen Derived from Myrothecium Verrucaria”

S.N. 09/633,260, “Regeneration of Rose Plants from Embryogenic Callus”

S.N. 09/645,204, “Method of Making Rice Fries and the Product Produced Therefrom”

S.N. 09/691,178, “A Plant Autophagy Gene”

S.N. 09/702,222, “Method of Reducing Bacterial Enteropathogens in the Crop of Fowl Subjected to Feed Withdrawal”

S.N. 09/703,807, “PCR Primers for Detection and Identification of Plant Pathogenic Species, Subspecies, and Strains of Acidovorax”

S.N. 09/715,677, “Transformation of Ricinus Communis, The Castor Plant”

S.N. 09/721,300, “Extrusion Freeform Fabrication of Soybean Oil Based Composites by Direct Deposition”

S.N. 09/726,873, “Solitary Bee Nesting Block”

S.N. 09/737,975, “Fungal Media and Methods for Continuous Propagation of Vesicular-Arbuscular Mycorrhizal (VAM) Fungi in Root Organ Culture”

S.N. 09/741,467, “Fiber Enriched Foods”

June Blalock,
Technology Licensing Coordinator.

[FR Doc. 01-6205 Filed 3-12-01; 8:45 am]

BILLING CODE 3410-03-P